DEPARTMENT OF COMMERCE

National Oceanic and Atmospheric Administration

50 CFR Part 679

[Docket No. 230728-0179]

RIN 0648-BL08

Fisheries of the Exclusive Economic Zone Off Alaska; Amendment 122 to the Fishery Management Plan for Groundfish of the Bering Sea and Aleutian Islands Management Area; Pacific Cod Trawl Cooperative Program; Correction

AGENCY: National Marine Fisheries Service (NMFS), National Oceanic and Atmospheric Administration (NOAA), Commerce.

ACTION: Final rule; correction.

SUMMARY: On August 8, 2023, NMFS published a final rule to implement Amendment 122 to the Fishery Management Plan for Groundfish of the Bering Sea and Aleutian Islands Management Area (BSAI FMP). The final rule included an incorrect cross reference and inadvertently left out two footnotes in a table. This correction fixes these errors.

DATES: Effective on September 7, 2023.

FOR FURTHER INFORMATION CONTACT: Stephanie Warpinski, 907-586-7228.

SUPPLEMENTARY INFORMATION: The NMFS final rule to implement Amendment 122 to the Fishery Management Plan for Groundfish of the Bering Sea and Aleutian Islands Management Area (BSAI FMP) (88 FR 53704) included an incorrect cross-reference at § 679.134(e)(3) and inadvertently left out two footnotes in table 40 to part 679. NMFS is now correcting the final rule to reflect the correct cross-reference to § 679.133(b) instead of § 679.133(c) and to include footnotes 1 and 2 in table 40 to part 679.

Corrections

In FR Doc. 2023-16526, published August 8, 2023, at 88 FR 53704, the following corrections are made:

1. On page 53743, in the first column, § 679.134(e)(3) is corrected to read as follows:

§ 679.134 [Corrected]

(e) * * *

(3) Groundfish sideboard limits. All groundfish harvests in the BSAI and GOA that are subject to a sideboard limit for that groundfish species as described under § 679.133(b), except groundfish harvested by a vessel when participating in the Central GOA Rockfish Program, will be debited against the applicable sideboard limit.

Table 40 to Part 679 [Corrected]

2. On page 53744, table 40 to part 679 is corrected to read as follows:

Table 40 to Part 679—BSAI Halibut PSC Sideboard Limits for AFA Catcher/Processors and AFA Catcher Vessels
In the following target species categories as defined at § 679.21(b)(1)(iii) and (e)(3)(iv) . . . | The AFA catcher/processor halibut PSC sideboard limit in metric tons is . . . | The AFA catcher vessel halibut PSC sideboard limit in metric tons is . . .
All target species categories | 286 | N/A
Pacific cod trawl | N/A | N/A
Pacific cod hook-and-line or pot | N/A | 2
Yellowfin sole | N/A | 101
Rock sole/flathead sole/“other flatfish” ¹ | N/A | 228
Turbot/Arrowtooth/Sablefish | N/A | 0
Rockfish ² | N/A | 2
Pollock/Atka mackerel/“other species” | N/A | 5
¹ “Other flatfish” for PSC monitoring includes all flatfish species, except for halibut (a prohibited species), Greenland turbot, rock sole, flathead sole, yellowfin sole, and arrowtooth flounder.
² Applicable from July 1 through December 31.

Dated: August 17, 2023.
Samuel D. Rauch, III,
Deputy Assistant Administrator for Regulatory Programs, National Marine Fisheries Service.

[FR Doc. 2023-18072 Filed 8-21-23; 8:45 am]

BILLING CODE 3510-22-P